DEPARTMENT OF EDUCATION

National Assessment Governing Board

Governing Board Meeting

AGENCY: National Assessment Governing Board, Department of Education.

ACTION: Notice of open and closed meeting.

SUMMARY: This notice sets forth the agenda, time, and instructions to access a meeting of the National Assessment Governing Board's (hereafter referred to as the Board or Governing Board). This notice provides information to members of the public who may be interested in attending the meeting and/or providing written comments related to the work of the Governing Board. The meeting will be held virtually, as noted below. A registration link will be posted on the Governing Board's website, www.nagb.gov, five (5) business days prior to the meeting. This notice is submitted without 30 days' notice due to the need for the Board to act urgently on the National Assessment of Educational Progress (NAEP) Schedule of Assessments, ahead of contractual deadlines.

DATES: The Board Meeting will be held on the following date:

• April 21, 2025, from 10:00 a.m. to 11:30 a.m., ET

ADDRESSES: Virtual.

FOR FURTHER INFORMATION CONTACT: Angela Scott, Designated Federal Officer (DFO) for the Governing Board, 400 Maryland Avenue SW, Suite 1A101, Washington, DC 20024, telephone: (202) 357-7502; email: Angela.Scott@ed.gov.

SUPPLEMENTARY INFORMATION:

Statutory Authority and Function: The Governing Board is established under the National Assessment of Educational Progress Authorization Act (20 U.S.C. 9621). Information on the Governing Board and its work can be found at www.nagb.gov. Notice of the meetings is required under section 1009(a)(2) of 5 U.S.C. chapter 10 (commonly known as the Federal Advisory Committee Act). The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP results.

Governing Board Meeting

The meeting of the Governing Board will be held on the following date and time:

Monday, April 21, 2025

10:00 a.m.-11:20 a.m. (ET) Closed Session (Virtual)

11:20 a.m.-11:30 a.m. (ET), Open Session (Virtual)

On Monday, April 21, 2025, the Governing Board will meet in closed session from 10:00 a.m. to 11:20 a.m. to discuss the NAEP Schedule of Assessments. Governor Beverly Perdue, Chair of the Governing Board, will welcome members and lead discussion on the NAEP Schedule of Assessments. These discussions may impact current and future NAEP contracts and budgets and must be kept confidential to maintain the integrity of the Federal acquisition process. Public disclosure of this confidential information would significantly impede implementation of the NAEP assessment program if conducted in open session. Such matters are protected by exemption 9(B) of the Government in the Sunshine Act, 5 U.S.C. 552b.

The Board will continue in open session from 11:20 a.m. to 11:30 a.m. to take action on changes to the Schedule of Assessments.

Instructions for Accessing and Attending the Meetings

Registration: Members of the public may attend the open session of the April 21, 2025, meeting of the Governing Board. A link to the final meeting agenda and information on how to register for the open session will be posted on the Governing Board's website, www.nagb.gov, no later than five (5) business days prior to the meeting.

Public Comment: Written comments related to the work of the Governing Board may be submitted to the attention of the DFO, either via email to Angela.Scott@ed.gov or in hard copy to the address listed above. Written comments related to the April 21, 2025, Governing Board meeting should be submitted no later than close of business on April 18, 2025, and should reference the relevant agenda item.

Access to Records of the Meeting: Pursuant to 5 U.S.C. 1009, the public may inspect the meeting materials and other Governing Board records at 400 Maryland Avenue SW, Suite 1A101, Washington, DC 20024, by emailing Angela.Scott@ed.gov to schedule an appointment. The official verbatim transcripts of the open meeting sessions will be available for public inspection no later than 30 calendar days following each meeting. Requests for the verbatim transcriptions may be made via email to the DFO.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III, section 301—National Assessment of Educational Progress Authorization Act (20 U.S.C. 9621).

Elizabeth Schneider,
Deputy Executive Director, National Assessment Governing Board (NAGB), U.S. Department of Education.

[FR Doc. 2025-06749 Filed 4-17-25; 8:45 am]

BILLING CODE 4000-01-P